SURFACE TRANSPORTATION BOARD

[Docket No. EP 290 (Sub-No. 5) (2023-2)]

Quarterly Rail Cost Adjustment Factor

AGENCY: Surface Transportation Board.

ACTION: Approval of rail cost adjustment factor.

SUMMARY: The Board has approved the second quarter 2023 Rail Cost Adjustment Factor (RCAF) and cost index filed by the Association of American Railroads. The second quarter 2023 RCAF (Unadjusted) is 1.004. The second quarter 2023 RCAF (Adjusted) is 0.403. The second quarter 2023 RCAF-5 is 0.385.

DATES: Applicability Date: March 23, 2023.

FOR FURTHER INFORMATION CONTACT: Pedro Ramirez at (202) 245-0333. Assistance for the hearing impaired is available through the Federal Relay Service at (800) 877-8339.

SUPPLEMENTARY INFORMATION: Additional information is contained in the Board's decision, which is available at www.stb.gov.

Decided: March 20, 2023.
By the Board, Board Members Fuchs, Hedlund, Oberman, Primus, and Schultz.
Jeffrey Herzig,
Clearance Clerk.

[FR Doc. 2023-06017 Filed 3-22-23; 8:45 am]

BILLING CODE 4915-01-P